CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed Stakeholder Assessment of Senior Corps RSVP grantees. This information collection is a requirement of the Serve America Act. The information collection will be used by the community partners of current Senior Corps grantees for the national RSVP re-competition beginning in 2013. Completion of the Stakeholder Assessment is required in order for RSVP grantees to receive pre-competition training and technical assistance.

DATES: Written comments must be submitted to the individual and office listed in the ADDRESSES section by March 15, 2010.

ADDRESSES: You may submit comments, identified by the title of the information collection activity, by any of the following methods:

(1) By mail sent to: Corporation for National and Community Service, Senior Corps; Attention Katharine Delo Gregg, Program Officer, Room 9408A, 1201 New York Avenue, NW., Washington, DC 20525.

(2) By hand delivery or by courier to the Corporation's mailroom at Room 6010 at the mail address given in paragraph (1) above, between 9 a.m. and 4 p.m. Monday through Friday, except Federal holidays.

(3) By fax to: (202) 606-3475, Attention Katharine Delo Gregg, Program Officer.

(4) Electronically through the Corporation's e-mail address system: kgregg@cns.gov.

FOR FURTHER INFORMATION CONTACT: Katharine Delo Gregg, (202) 606-6965, or by e-mail at kgregg@cns.gov.

SUPPLEMENTARY INFORMATION:

The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Serve America Act requires re-competition of RSVP grants beginning in 2013. In preparation for the re-competition, the legislation requires a stakeholder assessment. Each grantee will receive a custom report with feedback, based on the results of the assessments. The Stakeholder Assessment will be completed electronically using Zoomerang.

Current Action

The information collection is intended to be completed by the Community Advisory Boards of current RSVP grantees. The individual questions have previously existed in grant applications, program handbooks and guidance, however, the format of the information collection is new.

The information collection will be used to collect data to enhance technical assistance for current grantees. The Corporation will not use the results of this information collection for decisionmaking purposes regarding grant awards.

Type of Review: New.

Agency: Corporation for National and Community Service.

Title: Senior Corp RSVP Community Stakeholder Assessment.

OMB Number: None.

Agency Number: None.

Affected Public: Community Advisory Boards of current recipients of Senior Corps RSVP Grants.

Total Respondents: 700.

Frequency: Annual.

Average Time per Response: 2.5 hours.

Estimated Total Burden Hours: 1,750 hours.

Total Burden Cost (capital/startup): None.

Total Burden Cost (operating/maintenance): None.

Comments submitted in response to this notice will be summarized and/or included in the request for Office of Management and Budget approval of the information collection request; they will also become a matter of public record.

Dated: January 6, 2010.
Angela Roberts,
Acting Director, Senior Corps.

[FR Doc. 2010-357 Filed 1-11-10; 8:45 am]

BILLING CODE 6050-$$-P